DEPARTMENT OF HEALTH AND HUMAN SERVICES

Administration for Children and Families

Submission for OMB Review; Comment Request

Title: ACF-OGM-PPR-Form B—Program Indicators.

OMB No.: New Collection.

Description: The Office of Grants Management (OGM), in the Administration for Children and Families (ACF) is proposing the collection of program performance data for ACF's discretionary grantees. To collect this data OGM has developed a form from the basic template of the OMB-approved reporting format of the Program Performance Report. OGM will use this data to determine if grantees are proceeding in a satisfactory manner in meeting the approved goals and objectives of the project, and if funding should be continued for another budget period.

The requirement for grantees to report on performance is OMB grants policy. Specific citations are contained in: (1) OMB Circular A-102. Grants and Cooperative Agreements with States and Local Governments, also known as the “Common Rule” [codified at 45 CFR Part 92] and (2) OMB Circular A-110, Uniform Administrative Requirements for Grants and Agreements with Institutions of Higher Education, Hospitals, and Other Non-Profit Organizations [codified at 2 CFR Part 215].

Respondents: All ACF Discretionary Grantees. State governments, Native American Tribal governments, Native American Tribal Organizations, Local Governments, and Nonprofits with or without 501 (c)(3) status with the IRS.

Annual Burden Estimates
Instrument | Number of respondents | Number of responses per respondent | Average burden hours per response | Total burden hours
ACF-OGM-PPR-B | 6000 | 1 | 1 | 6000

Estimated Total Annual Burden Hours: 6000.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA_SUBMISSION@OMB.EOP.GOV, Attn: Desk Officer for the Administration for Children and Families.

Robert Sargis,
Reports Clearance Officer.

[FR Doc. 2012-10746 Filed 5-3-12; 8:45 am]

BILLING CODE 4184-01-P